DEPARTMENT OF THE INTERIOR

National Park Service

[NPS-PWRO-KALA-17793; PPPWKALA00] [PPMPSPD1Z.YM0000]

Notice of April 21, 2015, Meeting for Kalaupapa National Historical Park Advisory Commission

AGENCY: National Park Service, Interior.

ACTION: Meeting notice.

SUMMARY: As required by the Federal Advisory Committee Act (5 U.S.C. Appendix 1-16), the National Park Service is giving notice of the April 21, 2015, meeting of the Kalaupapa National Historical Park Advisory Commission.

DATES: The public meeting of the Kalaupapa National Historical Park Advisory Commission will be held on Tuesday, April 21, 2015, at 9:45 a.m. (HAWAII STANDARD TIME).

ADDRESSES: The meeting will be held at Paschoal Hall, Kalaupapa National Historical Park, Kalaupapa, Hawaii 96742.

Agenda: The Commission meeting will consist of the following:

1. Approval of Agenda

2. Approval of February 1, 2013, Minutes

3. Superintendent's Report

4. Draft General Management Plan and Environmental Impact Statement Presentation

5. Memorial Update

6. Public Comments

FOR FURTHER INFORMATION CONTACT: Further information concerning this meeting may be obtained from the Designated Federal Official Rosa Key, Acting Superintendent, Kalaupapa National Historical Park, P.O. Box 2222, Kalaupapa, Hawaii 96742, telephone (808) 567-6802, ext. 1100.

SUPPLEMENTARY INFORMATION: The meeting is open to the public. Interested persons may make oral/written presentations to the Commission or file written statements. Such requests should be made to the Acting Superintendent at least seven days prior to the meeting. Before including your address, telephone number, email address, or other personal identifying information in your comment, you should be aware that your entire comment—including your personal identifying information—may be made publicly available at any time. While you may ask us in your comment to withhold your personal identifying information from public review, we cannot guarantee that we will be able to do so.

Dated: March 18, 2015.
Alma Ripps,
Chief, Office of Policy.

[FR Doc. 2015-06792 Filed 3-24-15; 8:45 am]

BILLING CODE 4310-EE-P